DEPARTMENT OF THE INTERIOR

Fish and Wildlife Service

Interim Voluntary Guidelines To Avoid and Minimize Wildlife Impacts from Wind Turbines

AGENCY: Fish and Wildlife Service.

ACTION: Notice of availability of interim guidelines and request for comments.

SUMMARY: The Fish and Wildlife Service (Service) has developed voluntary interim guidelines for locating and designing wind energy facilities to avoid or minimize the loss of wildlife, particularly birds and bats, and their habitats. These guidelines are intended to assist Service personnel in providing technical assistance to the wind energy industry to avoid or minimize impacts to wildlife and their habitats through: (1) Proper evaluation of potential wind energy development sites; (2) proper location and design of turbines and associated structures within sites selected for development; and (3) pre- and post-construction research and monitoring to identify and/or assess impacts to wildlife. This guidance is intended for terrestrial applications only; guidelines for wind energy developments in marine environments and the Great Lakes are being studied and will be provided at a future date. While these guidelines are voluntary, we encourage their immediate use by the wind energy industry. We also encourage and solicit comments on this guidance, including suggestions for improvement based on new scientific research. The interim guidelines are based on current science and will be updated as new information becomes available. They will be evaluated over a 2-year period, and then modified as necessary based on their performance in the field and on the latest scientific and technical discoveries developed in coordination with industry, States, academic researchers, and other Federal agencies. Extensive use of the interim guidelines by the wind industry will be vital to this evaluation. The guidelines may be accessed on the Service's Web site at http://www.fws.gov/r9dhcbfa. Comments on the interim guidelines are invited during the 2-year interim period.

DATES: Comments on the interim guidelines must be received or postmarked by July 7, 2005.

ADDRESSES: Comments should be sent to Dr. Benjamin N. Tuggle, Chief, Division of Federal Program Activities, U.S. Fish and Wildlife Service, 4401 North Fairfax Drive, Arlington, Virginia 22203.

FOR FURTHER INFORMATION CONTACT: Contact Dr. Benjamin N. Tuggle at (703) 358-2161.

SUPPLEMENTARY INFORMATION: In response to recommendations made in the National Energy Policy report, the Department of the Interior has been re-evaluating its existing renewable energy programs and industry access limitations to Federal lands. These actions are intended to both increase the Department's use of renewable energy and to assist industry in increasing renewable energy production, in an environmentally friendly manner, on Department managed lands. Development of wind energy is a significant component of this initiative.

Wind-generated electrical energy is renewable, produces no emissions, and is considered to be generally environmentally friendly technology. However, wind energy facilities can adversely impact wildlife, especially birds and bats, and their habitats. Commercial wind energy facilities have been constructed in 29 States, with developments planned for several other states as well as coastal and offshore areas. As more facilities with larger turbines are built, the cumulative effects of this rapidly growing industry may initiate or contribute to the decline of some wildlife populations. The potential harm to these populations from an additional source of mortality makes careful evaluation of proposed facilities essential. Considerable avian mortality occurred at older wind energy facilities; therefore, the potential impact of the current rapid expansion of wind energy developments on wildlife is of serious concern to the Fish and Wildlife Service, the wind energy industry, and the public. Due to local differences in wildlife concentration and movement patterns, habitats, area topography, facility design, and weather, each proposed development site is unique and requires detailed, individual evaluation.

Service personnel may become involved in the review of potential wind energy developments on public lands through National Environmental Policy Act review (Sections 1501.6, opportunity as a cooperating agency, and Section 1503.4, duty to comment on federally-licensed activities for agencies with jurisdiction by law, i.e., the Migratory Bird Treaty Act and Bald and Golden Eagle Protection Act); or because of special expertise. The National Wildlife Refuge System Improvement Act requires that any activity on Refuge lands be determined to be compatible with the Refuge system mission and Refuge purpose(s). In addition, the Service is required by the Endangered Species Act to assist other Federal agencies in ensuring that any action they authorize, implement, or fund will not jeopardize the continued existence of any federally endangered or threatened species. Service biologists have also received requests from industry for consultation on wildlife impacts of proposed wind energy developments on private lands.

In January 2002, the Service established a Wind Turbine Siting Working Group to develop a set of comprehensive national guidelines for locating, designing, and operating wind energy facilities in a manner that would avoid or minimize the loss of wildlife and their habitats at these facilities. The purpose of this effort is to ensure that wildlife resources are protected while streamlining the site selection and facility design process, and avoiding unanticipated conflicts after construction.

(Notice: Interim Voluntary Guidelines to Avoid and Minimize Wildlife Impacts from the Wind Turbines)

Dated: June 23, 2003.
Matt Hogan,
Deputy Director, U.S. Fish and Wildlife Service.

[FR Doc. 03-17429 Filed 7-9-03; 8:45 am]

BILLING CODE 4310-55-P